ELECTION ASSISTANCE COMMISSION

Proposed Privacy Policy Statement

AGENCY: U.S. Election Assistance Commission.

ACTION: Notice and request for public comment on Proposed Privacy Policy Statement.

SUMMARY: The U.S. Election Assistance Commission (EAC) seeks public comment on the Proposed Privacy Policy Statement. OMB Memorandum M-99-18 requires, among other things, that Federal agencies post on their Web sites a privacy policy statement concerning how and when an agency collects information related to an individual's use of the agency Web site. These statements are intended to inform the public of government-wide policies and how each agency implements those policies relative to Web site users' information. Most of the practices discussed in proposed policy statement are required by statute or regulation. As a result, some portions of the proposed policy may not be amended. However, EAC invites comment and will consider amendments to elements that are not required by statute or regulation.

DATES: Written comments must be submitted on or before 4 p.m. EDT on June 1, 2010.

Comments: Public comments are invited on the information contained in the policy. Comments on the proposed policy should be submitted electronically to HAVAcomments@eac.gov. Written comments on the proposed policy can also be sent to the U.S. Election Assistance Commission, 1201 New York Avenue, NW., Suite 300, Washington, DC 20005, ATTN: Proposed Privacy Policy Statement.

Obtaining a Copy of the Policy: To obtain a free copy of the policy: (1) Access the EAC Web site at http://www.eac.gov; (2) write to the EAC (including your address and phone number) at U.S. Election Assistance Commission, 1201 New York Avenue, NW., Suite 300, Washington, DC 20005, ATTN: Proposed Privacy Policy Statement.

FOR FURTHER INFORMATION CONTACT: Andrew Guggenheim or Tamar Nedzar, Election Assistance Commission, 1201 New York Avenue, NW., Suite 300, Washington, DC 20005; Telephone: 202-566-3100.

Donetta L. Davidson,
Chair, U.S. Election Assistance Commission.

[FR Doc. 2010-9913 Filed 4-28-10; 8:45 am]

BILLING CODE 6820-KF-P